DEPARTMENT OF AGRICULTURE

Forest Service

Phase 1—Fuels Treatment for Community Protection Environmental Impact Statement, Six Rivers National Forest, Lower Trinity Ranger District, Humboldt County, California

AGENCY: Forest Service, USDA.

ACTION: Notice of intent to prepare an Environmental Impact Statement.

SUMMARY: The Six Rivers National Forest will prepare an Environmental Impact Statement (EIS) on a proposal to reduce fuels in high severity burned stands within strategically located fuel breaks and associated fuel treatment areas within the Waterman Ridge, Lone Pine Ridge and Mill Creek areas. Fuels reduction treatments are proposed on approximately 931 acres of merchantable and 187 acres of non-merchantable stands. Fuel reduction was identified as a need in the Forest-wide Late-Successional Reserve Assessment (April 1999) and further developed in the Horse Linto, Mill and Tish Tang Watershed Assessment (March 2000). It is the first phase of the Megram Fire Recovery Strategy designed to protect communities from wildlife and extended exposure to smoke and to restore affected watersheds. The entire project is in federal land ownership.

Treatment within merchantable stands involves the removal of fire and insect killed commercial wood material and treatment of the remaining fuels. Merchantable stands have the size, quality and condition suitable for market under current economic conditions. Treatment of remaining fuels would use a combination of methods including: Lop and scatter, masticating (chipping) of treatment units or strips along roads and skid trails, excavator piling, hand piling, burning of piles and concentration of fuels (jackpot burning), yarding unmerchantable material to landings and burning it, felling unmerchantable material and burning, and broadcast burning.

Non-merchantable stands would be treated to reduce fuels by cutting dead vegetation and hand piling and burning.

Planting of nursery stock would occur on understocked acres upon completion of fuel treatments. Stand tending treatments include release for conifer establishment and growth, conifer thinning and pruning.

DATES: Comments concerning the scope of this project should be received in writing by December 1, 2000.

ADDRESSES: Please send written comments to S.E. “Lou” Woltering, Forest Supervisor, Six Rivers National Forest, 1330 Bayshore Way, Eureka, California 95501.

FOR FURTHER INFORMATION CONTACT:

John Larson, Lower Trinity District Ranger, Six Rivers National Forest, (530) 625-2118; or

Dave Webb, EIS Team Leader, Six Rivers National Forest, P.O. Box 228, Gasquet, CA 95543, (707) 457-3131, extension 120.

SUPPLEMENTARY INFORMATION: During the summer and fall of 1999, the Megram Fire burned approximately 49,400 acres within the Horse Linto, Mill Creek and Tish Tang Creek (HLMTT) watersheds. Subsequent to the Fire, the HLMTT Watershed Assessment (WA) was completed in March 2000.

The Megram Recovery Strategy was prepared in June of 2000, which set priorities for implementation of the recommendations made in the WA. The Watershed Analysis emphasizes the need to restore watershed functions, protect remaining mature and old growth stands from catastrophic loss, accelerate development of late-successional habitat, reduce fuel levels in strategic locations and create stand conditions that would lower the potential for future catastrophic fire and, at the same time, provide for community protection from future wildfires and extended exposure to smoke. It also points out that restoring natural fire regimes to the area is an ideal way of realizing these goals. Based on resource needs and public input, the Forest Strategic Leadership Team determined that watershed and soil restoration, along with providing for community protection for future wildfires, were the primary focus at this time.

The proposal is also consistent with the National Fire Plan that was developed from the report by the Secretaries of Agriculture and Interior to the President in response to the wildfires of 2000 (“Managing the Impact of Wildfires on Communities and the Environment”, September 8, 2000). This proposal is consistent with two of the five key points of the Plan: Reducing the risk of fire through hazardous fuels reduction and working directly with communities to ensure adequate protection. Successful implementation of the Plan will, in the long term, reduce the number of small fires that become large; restore natural ecological systems to minimize uncharacteristically intense fires; and reduce the threat to life and property from catastrophic wildfire. A key element in the Plan focuses on collaboration with communities, interest groups, State and Federal agencies and tribal governments.

The Megram Fire created extensive areas of dead and dying trees and shrubs dispersed across a landscape that already had high historic vegetation densities and high fuel loading. In addition, a tremendous number of snags were created and will continue to be created within the severely burned areas as trees are killed by insects and burn-related stress. This extensive snag component, in combination with the relatively high lightning occurrence in the area and a hazardous fuel situation, increases the probability of future lightning ignitions and potentially large stand-replacing wildfires. The extent and distribution of this fire hazard and risk present a substantial threat to local communities, both from wildfires and high levels of smoke. Fears and concerns of long-term public health issues are significant to the local communities, as is preventing a similar future fire from occurring. Wildlife protection of local communities and Tribal Trust responsibilities for the Hoopa Valley Indian Reservation are critical components of this proposal.

Active management would be instrumental in reducing this risk. One such management strategy, a system of fuel breaks with associated fuel treatment areas, was identified in the Forest-Wide Late-Successional Reserve Assessment and further developed within the HLMTT WA. Proposed activities within fuel breaks and associated fuel treatment areas include treatments necessary to modify areas with high concentrations of standing dead and down trees or brush to a more open fuel type. Fuel breaks and fuel treatment areas would be located strategically on ridges or natural land features, on the upper ⅓ of slopes or along a road. Most of the areas proposed for treatment are located on south and west facing slopes because these slopes are generally drier and would burn hotter than north and east facing slopes. In addition, the location of these areas is related to suppression capability and availability of resources.

Phase 1 would reduce fuels in both merchantable and non-merchantable stands in the Horse Linto and Mill Creek watersheds within the Waterman Ridge, Lone Pine Ridge and Mill Creek areas. Fuels reduction would only occur in those stands that have vegetation mortality of 60 percent or greater, that are not suitable survey and manage species habitat, and are located within the areas identified for community protection. There are other areas with mortality greater than 60 percent containing merchantable and non-merchantable stands that will not be treated because these areas do not provide for strategic community protection. Fuels reduction would not occur in the Tish Tang watershed, which is within the Orleans Mountain “C” Roadless Area.

Water quality parameters are important to the analysis area, which include temperature, sediment and turbidity. These parameters are the most critical water quality parameters for beneficial uses within the analysis area since they can be modified by land management activities. Future wildfires in these areas would tend to burn with high severity again, which would increase the likelihood of future accelerated surface erosion and possibly mass-wasting, delivering sediment to fish-bearing streams.

Treatment of merchantable stands would include the removal of fire and insect killed commercial wood material, treatment of remaining fuels, reforestation and stand tending. Stand tending treatments would include release for conifer establishment and growth, conifer thinning and pruning. Live trees would be retained, as well as sufficient numbers of large, dead trees within each stand to meet Forest standards and guidelines for snag retention. However, for units within fuel breaks, lower densities of snags would be left on ridge tops for firefighter safety and to facilitate fire suppression. Treatment of remaining fuels would use a combination of methods including: lop and scatter, masticating (chipping) of treatment units or strips along roads and skid trails, excavator piling, hand piling, burning of piles and concentration of fuels (jackpot burning), yarding unmerchantable material to landings and burning, felling unmerchantable material and burning, and broadcast burning. Reforestation would be accomplished through retention of pockets of natural regeneration and/or by hand planting of nursery stock. Stand tending would be long term and directed towards creating stands with non-continuous fuel ladders that are less conducive to high intensity crown fires.

Three merchantable stands (six acres) would be treated within Waterman Ridge. For all three, commercial material would be removed by tractor, with approximately 0.2 miles of temporary roads constructed to access one merchantable stand.

Twenty-eight merchantable stands (267 acres) would be treated within the Mill Creek area. Merchantable material would re removed by helicopter from 22 stands (228 acres) and by tractor from six stands (39 acres). Approximately 0.35 miles of existing roads and 0.45 miles of existing temporary roads would be reopened to access three stands.

Fifty-eight merchantable stands (658 acres) would be treated within the Lone Pine Ridge area. Merchantable material would be removed by helicopter from 17 stands (256 acres), by tractor from 28 stands (173 acres) and by cable from 13 stands (229 acres). Approximately 0.1 miles of new temporary road would be constructed to access one stand and approximately 1.05 miles of existing roads and 0.75 miles of existing temporary roads would be reopened to access seven stands.

One non-merchantable plantation (17 acres) would be treated within Waterman Ridge to reduce fuel loading. This plantation was heavily stocked with hardwoods before the Megram Fire. Fire-killed vegetation would be removed using commercial and/or personal use firewood permits. The temporary road used to access an adjoining merchantable stand would be extended approximately 0.1 mile along Waterman Ridge. Slash resulting from this treatment would be piled and burned. The stand would be reforested using nursery stock, with stand tending occurring over the long term.

Two non-merchantable stands would be treated within the Mill Creek Area to reduce fuel loading. In one stand, a plantation (45 acres) of fire-killed vegetation would be cut, live trees would be pruned and cut vegetation would be hand piled and burned. A portion of this stand would need reforestation. In the other stand, a natural stand (56 acres), merchantable trees would be retained and non-merchantable trees and brush would be cut, hand piled and burned. Reforestation would be accomplished through retention of pockets of natural regeneration and by hand planting of nursery stock. Stand tending would occur over the long term.

Five non-merchantable stands (69 acres), all plantations, would be treated within the Lone Pine Ridge area to reduce fuel loading. In two plantations (16 acres), fire killed vegetation would be cut, live trees would be pruned and cut vegetation would be hand piled and burned. In three plantations (53 acres), dead trees would be felled, live trees would be thinned and pruned. In all five plantations, no reforestation would occur.

This proposal is Phase 1 in the overall strategy to protect communities from wildfires and extended exposure to smoke and to restore affected watersheds. Phase II would continue the work that is proposed in Phase I, by reducing fuels in unburned and moderately burned areas within the strategic fuelbreaks. Connecting the high severity and less severely burned fuel treatment areas would create a more continuous and effective fuelbreak. The unburned and moderately burned areas are suitable habitat for survey and manage species. Surveys for these species will be initiated during the fall of 2000 and spring of 2001. Results of these surveys would be utilized in the development of Phase II proposed actions, which would be analyzed under separate environmental analysis. The potential foreseeable future actions under Phase II would be considered in the cumulative effects analysis completed for Phase I.

Public participation will be an integral component of the analysis process and will be especially important at several points during the analysis. During the scoping process, the Forest Service will seek information, comments and assistance from Federal, State, County and local agencies, tribes, individuals and organizations that may be interested in or affected by the proposed activities. The scoping process will determine the scope of the issues to be addressed, determine the significant issues related to the proposed action, identify and eliminate other issues, assign tasks and determine disciplines, determine the existence of related environmental documents and identify schedules for analysis and decision making. Written scoping comments will be solicited through a scoping package that will be sent to the project mailing list and the local newspaper. Public open houses to present the proposed action and answer questions will be held from 7 PM to 9 PM, PST at the following locations:

• November 8, 2000 at the Trinity Valley Elementary School, Highway 96, Willow Creek, CA, 95513

• November 9, 2000 at Redwood Acres Turf Club, 3750 Harris Street, Eureka, CA 95501

For the Forest Service to best use the scoping input, comments should be received by December 1, 2000. The scoping package is available by contacting Dave Webb at the address or phone number listed above. Tentative issues that may be analyzed in the EIS include the potential effects to water quality and downstream cumulative watershed impacts to beneficial uses; to air quality; to threatened, endangered and sensitive wildlife, plant and fish species and associated habitat; and to soil productivity.

Based on the results of scoping and the resource conditions within the project area, alternatives (including a no-action alternative) will be developed for the draft EIS. The draft EIS is projected to be filed with the Environmental Protection Agency (EPA) in February 2001. The final EIS is anticipated in April 2001.

The comment period on the draft Environmental Impact Statement will be 45 days from the date the Environmental Protection Agency publishes the notice of availability in the Federal Register.

To assist the Forest Service in identifying and considering issues and concerns on the proposed action, comments should be as specific as possible. The Forest Service believes, at this early stage, it is important to give reviewers notice of several court rulings related to public participation in the environmental review process. First, reviewers of draft environmental impact statements must structure their participation in the environmental review of the proposal so that it is meaningful and alerts the agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the designated comment period so that substantive comments and objections are made available to the Forest Service at a time when it can meaningfully consider them and respond to them in the final Environmental Impact Statement.

No Permits or special authorizations would be required. The Six Rivers National Forest is the lead agency for preparation of this document. There are no cooperating agencies on this project. Consultation will occur with local tribes, National Marine Fisheries Service and the U.S. Fish and Wildlife Service. S.E. “Lou” Woltering, Forest Supervisor, Six Ribers National Forest, is the responsible official. In making the decision, the Responsible Official will consider the comments; responses; disclosure of environmental consequences; and applicable laws, regulations and policies. The Responsible Official will state the rationale for the chosen alternative in the Record of Decision.

Dated: October 23, 2000.
S.E. “Lou” Woltering,
Forest Supervisor.

[FR Doc. 00-27728 Filed 10-27-00; 8:45 am]

BILLING CODE 3410-11-M